ENVIRONMENTAL PROTECTION AGENCY

40 CFR Part 52

[EPA-R05-OAR-2021-0615; EPA-R05-OAR-2021-0616; EPA-R05-OAR-2021-0617; FRL-11003-02-R5]

Air Plan Approval; Ohio; Canton, Cleveland, and Steubenville Second 10-Year 2006 24-Hour PM2.5 Limited Maintenance Plans

AGENCY: Environmental Protection Agency (EPA).

ACTION: Final rule.

SUMMARY: Under the Clean Air Act (CAA), the Environmental Protection Agency (EPA) is approving the limited maintenance plans (LMPs) submitted by the Ohio Environmental Protection Agency (OEPA) for the Canton-Massillon (Stark County), Cleveland-Akron-Lorain (Cuyahoga, Lake, Lorain, Medina, Portage, and Summit Counties) and Steubenville-Weirton Ohio-West Virginia (Jefferson County) maintenance areas. The plans address the second 10-year maintenance periods for particulate matter with an aerodynamic diameter less than or equal to a nominal 2.5 micrometers (PM2.5). EPA is approving Ohio's LMP submissions for Canton-Massillon, Cleveland-Akron-Lorain, and Steubenville-Weirton because they provide for the maintenance of the 2006 PM2.5 national ambient air quality standards (NAAQS) through the end of the second 10-year portion of the maintenance periods. EPA finds adequate and is approving the LMPs as meeting the appropriate transportation conformity requirements. EPA proposed to approve this action on July 5, 2023, and received no adverse comments.

DATES: This final rule is effective on February 21, 2024.

ADDRESSES: EPA has established dockets for this action under Docket ID No. EPA-R05-OAR-2021-0615 (Canton-Massillon), EPA-R05-OAR-2021-0616 (Cleveland-Akron-Lorain), or EPA-R05-OAR-2021-0617 (Steubenville-Weirton). All documents in the dockets are listed on the www.regulations.gov website. Although listed in the index, some information is not publicly available, i.e., Confidential Business Information (CBI) or other information whose disclosure is restricted by statute. Certain other material, such as copyrighted material, is not placed on the internet and will be publicly available only in hard copy form. Publicly available docket materials are available either through www.regulations.gov or at the Environmental Protection Agency, Region 5, Air and Radiation Division, 77 West Jackson Boulevard, Chicago, Illinois 60604. This facility is open from 8:30 a.m. to 4:30 p.m., Monday through Friday, excluding Federal holidays and facility closures due to COVID-19. We recommend that you telephone Cecilia Magos, at (312) 886-7336 before visiting the Region 5 office.

FOR FURTHER INFORMATION CONTACT: Cecilia Magos, Attainment Planning and Maintenance Section, Air Programs Branch (AR18J), Environmental Protection Agency, Region 5, 77 West Jackson Boulevard, Chicago, Illinois 60604, (312) 886-7336, magos.cecilia@epa.gov.

SUPPLEMENTARY INFORMATION: Throughout this document whenever “we,” “us,” or “our” is used, we mean EPA.

I. Background Information

On November 13, 2009, EPA designated the Canton-Massillon (Canton), Cleveland-Akron-Lorain (Cleveland), and Steubenville-Weirton (Steubenville) areas as PM2.5 nonattainment areas due to measured violations of the 2006 PM2.5 NAAQS (74 FR 58688). On June 18, May 30, and May 25, 2012, OEPA submitted requests to redesignate the Canton, Cleveland, and Steubenville nonattainment areas to attainment of the 2006 PM2.5 NAAQS. These submissions included plans to provide for maintenance of the 2006 2PM2.5 NAAQS in the areas for 10 years. EPA redesignated the Canton, Cleveland, and Steubenville areas to attainment for the 2006 PM2.5 NAAQS on October 22, 2013 (78 FR 62459), and September 18, 2013 (78 FR 57270 and 78 FR 57273), respectively, and approved the associated maintenance plans into the Ohio State Implementation Plan (SIP). The purpose of OEPA'S September 8, 2021, LMP submissions is to fulfill the second 10-year planning requirement of CAA section 175A(b) to ensure PM2.5 NAAQS compliance for these areas.

On July 5, 2023 (88 FR 42900), EPA proposed to approve the second 10-year PM2.5 LMPs, for the Canton, Cleveland, and Steubenville maintenance areas addressing the 2006 PM2.5 maintenance areas. EPA's approval of these LMPs will satisfy the CAA section 175A requirements for the second 10-year period for the Canton, Cleveland, and Steubenville 2006 PM2.5 maintenance areas through 2033. Further explanation of the CAA requirements, a detailed analysis of the revisions, and EPA's reasons for proposing approval were provided in the notice of proposed rulemaking (88 FR 42900) and will not be restated here. The public comment period for this proposed rule ended on August 4, 2023. EPA received no comments on the proposal and is finalizing our action as proposed.

II. Final Action

EPA is approving the second 10-year PM2.5 LMPs for Canton, Cleveland, and Steubenville 2006 PM2.5 maintenance areas submitted by OEPA. EPA's review of the air quality data for the maintenance areas indicates that they continue to show attainment well below the level of the 2006 PM2.5 NAAQS and meet all the LMP qualifying criteria set forth in the PM2.5 LMP Guidance. The Canton, Cleveland, and Steubenville maintenance areas will no longer be required to perform regional emissions analyses as part of the conformity process, but must meet project-level conformity analyses requirements as well as other transportation conformity criteria.

III. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993), and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

OEPA did not evaluate environmental justice considerations as part of its SIP submittal; the CAA and applicable implementing regulations neither prohibit nor require such an evaluation. EPA performed an environmental justice analysis, as is described in the section titled “Environmental Justice Considerations” in the notice of proposed rulemaking. See 88 FR 42906. The analysis was done for the purpose of providing additional context and information about this rulemaking to the public, not as a basis of the action. Due to the nature of the action being taken here, this action is expected to have a neutral to positive impact on the air quality of the affected area. In addition, there is no information in the record upon which this decision is based inconsistent with the stated goal of E.O. 12898 of achieving environmental justice for people of color, low-income populations, and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by March 22, 2024. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: January 12, 2024.
Debra Shore,
Regional Administrator, Region 5.

Title 40 CFR part 52 is amended as follows:

PART 52—APPROVAL AND PROMULGATION OF IMPLEMENTATION PLANS

1. The authority citation for part 52 continues to read as follows:

Authority: 42 U.S.C. 7401 et seq.

2. In § 52.1870, the table in paragraph (e) is amended under “Summary of Criteria Pollutant Maintenance Plan” by revising the three entries titled “PM2.5 (2006)” to read as follows:

§ 52.1870 Identification of plan.

* * * * *

(e) * * *

EPA-Approved Ohio Nonregulatory and Quasi-Regulatory Provisions
Title | Applicable geographical or non-attainment area | State date | EPA approval | Comments
* * * * * * *
Summary of Criteria Pollutant Maintenance Plan
* * * * * * *
PM2.5 (2006) | Canton (Stark County) | 9/8/2021 | 1/22/2024, [INSERT FEDERAL REGISTER CITATION] | 2nd maintenance plan.
PM2.5 (2006) | Cleveland (Cuyahoga, Lake, Lorain, Medina, Portage, and Summit Counties) | 9/8/2021 | 1/22/2024, [INSERT FEDERAL REGISTER CITATION] | 2nd maintenance plan.
PM2.5 (2006) | Steubenville-Weirton (Jefferson County) | 9/8/2021 | 1/22/2024, [INSERT FEDERAL REGISTER CITATION] | 2nd maintenance plan.
* * * * * * *

[FR Doc. 2024-00976 Filed 1-19-24; 8:45 am]

BILLING CODE 6560-50-P